DEPARTMENT OF STATE

[Public Notice: 9726]

Department of State Bureau of South and Central Asian Affairs: Request for Proposals for the Design, Development, Installation, Operation, and Final Disposition of a U.S. Pavilion at the Astana Expo 2017

AGENCY: Department of State.

ACTION: Notice; Request for proposals.

SUMMARY: The Bureau of South and Central Asian Affairs (SCA) of the U.S. Department of State (Department) requests proposals from private U.S. individuals, firms, associations and organizations (for-profit or non-profit) for the design, development, installation, operation (including managing sponsorship donations and sponsorship fulfillment), and final disposition of a U.S. Pavilion at the International Exposition Astana Expo 2017, whose theme is “Future Energy.” The Department will issue a “letter of intent” to the selected proposer authorizing that entity to proceed with all fundraising necessary to complete the USA Pavilion project. Note that all prospective donors must be vetted with the Department for potential conflicts of interest. The Department is not authorized to provide federal funding for any aspect of the U.S. Pavilion at Astana Expo 2017. The successful proposer will be responsible for all costs associated with all aspects of the U.S. Pavilion as well as all support for the U.S. Commissioner General. The successful proposer will consult closely with and follow the direction of Department officials and the U.S. Commissioner General with respect to Pavilion content and programming. Proposals from non-U.S. citizens or non-U.S.-owned firms or organizations shall be deemed ineligible for consideration.

DATES: Submit proposals on or before October 26, 2016.

FOR FURTHER INFORMATION CONTACT: Office of Central Asian Affairs, SCA/CEN, U.S. Department of State, 2201 C Street NW., Washington, DC 20520; or email AstanaExpo2017@state.gov for assistance.

SUPPLEMENTARY INFORMATION:

I. Description of Project Authority

Overall authority for Department support for U.S. participation in international expositions is contained in Section 102(a)(3) of the Mutual Educational and Cultural Exchange Act of 1961, as amended (22 U.S.C. 2452(a)(3)), also known as the Fulbright-Hays Act. The purpose of the Act is “to enable the Government of the United States to increase mutual understanding between the people of the United States and the people of other countries; to strengthen the ties which unite us with other nations by demonstrating the educational and cultural interests, developments, and achievements of the people of the United States and other nations and thus to assist in the development of friendly, sympathetic and peaceful relations between the United States and the other countries of the world.” Pursuant to this authority, on a one-time basis, the Secretary of State has delegated authority for this particular Expo to the Bureau of South and Central Asian Affairs (SCA), which will be responsible for coordinating U.S. participation in Astana Expo 2017. Consequently, SCA will represent the U.S. Government in dealings with the Astana EXPO-2017 (JSC).

Background

The Government of the Republic of Kazakhstan has invited the United States to participate in the Astana Expo 2017 and the U.S. Government has advised the Kazakhstani Government of its intention to participate with an official U.S. Pavilion, subject to identification of a viable private sector partner and successful fundraising efforts. Astana Expo 2017 will be held on specially constructed exhibition grounds provided free of charge by the Kazakhstani Government. The Expo opens on June 10, 2017, and closes on September 10, 2017.

Astana Expo 2017 is a small-scale international exposition recognized by the International Expositions Bureau (BIE). The BIE is an international treaty organization established to sanction and monitor international exhibitions of long duration (over three weeks) and significant scale.

Invitations to international expositions are extended from the host government to other governments. The United States is not a member of the BIE, and the U.S. Commissioner General—selected by the Department—will therefore not be a formal member of the Steering Committee of the College of Commissioners General for Astana Expo 2017. With a projected two million visitors and five million visits, Astana Expo 2017 offers an excellent opportunity to educate and inform foreign audiences about the United States and its scientific and technological innovations relating to the theme of the Astana Expo—future energy—as well as to promote broad U.S. commercial interests around the world. U.S. participation in Astana Expo 2017 would confirm the strength and importance of U.S.-Kazakhstan bilateral ties and promote mutual understanding between the people of Kazakhstan and the United States.

Content

The JSC Astana EXPO-2017, the organizing committee for the Astana Expo, explains the overall theme of the Expo, “Future Energy,” as follows: “combating climate change and reducing CO2 emissions, promoting energy alternatives—renewable energy in particular—and driving energy efficiency programs; ensuring energy security; managing energy production, storage and use; and guaranteeing universal access to sustainable energy.” The theme for the U.S. Pavilion should be directly linked to the overall theme of the Expo and should reflect elements of the White House's “all of the above” energy strategy (https://www.whitehouse.gov/energy/securing-american-energy). SCA welcomes proposals for a Pavilion to showcase American expertise and innovation in some or all of the following areas: Advancing energy efficiency, safe and responsible gas and oil production, developing clean fuels, renewable energy, and carbon capture and sequestration technologies. Other Pavilion themes related to the overall Expo theme may also be proposed. The design concept for the U.S. Pavilion should appeal to a general, non-expert audience; proposals should therefore include entertaining elements for all ages as well as academic/expository aspects.

U.S. Direction

The U.S. Pavilion at Astana Expo 2017 will be an official representation of the Government of the United States of America in Kazakhstan; the Department must therefore ensure that the U.S. Pavilion is nonpolitical and nonpartisan in nature, of the highest possible quality, and balanced and representative of the diversity of American political, social, and cultural life. The Pavilion must maintain the highest level of scholarly integrity and meet the highest standards of artistic achievement and academic excellence. It should also be entertaining and interactive.

The U.S. Pavilion will be used to promote U.S. commercial interests as well as to highlight outstanding U.S. scientific and technological achievements. The proposed design for the U.S. Pavilion should include functional space for three purposes: An exhibit area, an administrative area, and hospitality facilities. The Pavilion layout should also include provisions for sponsorship recognition. Firms or companies subcontracted for design and other content creation must be U.S.-owned.

Further information on Astana Expo 2017 can be found at the official Expo Web site: https://expo2017astana.com/en/ and at the International Bureau of Exhibitions Web site: http://www.bie-paris.org/site/en/expos/upcoming-expos/expo-astana-2017. A participation guide with detailed information about the site, the pavilion, services, and cost estimates provided by JSC Astana EXPO-2017 is available at: http://ipm2016.kz/userdata/uploads/u14/1456310721.pdf.

Student Ambassadors

Proposals must include a plan for managing student “ambassadors” (guides) at the U.S. Pavilion. All student ambassadors must be U.S. citizens, from a diverse set of backgrounds and U.S. States, and be fluent in Russian or Kazakh. Experience has shown that it is highly advantageous to have a student ambassador program run in conjunction with a U.S.-based college or university.

Funding Limitations

Section 204 of Public Law 106-113 (22 U.S.C. 2452b) limits the support the Department may provide for U.S. participation in international expositions registered by the Bureau of International Expositions (BIE). This includes Astana Expo 2017. This Request for Proposals is intended to help identify a private U.S. individual, firm, association, or organization interested in, and capable of, providing a complete Pavilion/exhibit at Astana Expo 2017 as a gift to the United States Government. The Department is not authorized to provide funding for the U.S. Pavilion at Astana Expo 2017.

Costs

The U.S. Pavilion will be situated in an approximate 1,100-square-meter module provided at no-cost by the JSC Astana EXPO-2017. A mezzanine floor may be installed within the 12.5-meter height of the module. It is estimated that a representative U.S. presence in that space will cost $6 (six) million.

Costs would include, but not be limited to:

• Design and internal fit-out construction of the Pavilion space; incorporation of appropriate internal and external crowd control features;

• Design of the Pavilion; development of the story line;

• Managing sponsorship engagement by defining Sponsor packages based on pledge factors, accepting sponsor pledges solicited by the Department, and managing sponsorship fulfillment;

• Production of exhibits, audio-visual materials, films, DVDs, videos, posters, and other promotional materials needed for the exhibit;

• Managing all administrative, personnel, operations, and Pavilion costs, including salaries, benefits, contracting and supplier costs, and consulting fees, as well as funding associated with student guides, escorts, and representational gifts;

• Protocol team for the creation and staffing of hospitality facilities devoted to hosting all dignitaries visiting the U.S. Pavilion;

• Promotion and advertisement of the U.S. Pavilion;

• Media engagement and planning of communication strategy of the U.S. Pavilion, including the development of a Web site;

• Transport, travel, insurance, postage, and shipping fees;

• Security, namely, development and implementation of a security program for the U.S. Pavilion in consultation with the Department and appropriate Kazakhstani authorities;

• Cultural and informational programs associated with the Pavilion, including, but not limited to, production of U.S. National Day activities as well as other cultural programs;

• Funding for all expenses associated with the U.S. Commissioner General; and

• Tear-down, including removal of exhibits and return of the module space in the condition required by the Expo Organizing Committee. Final disposition plan must be approved by SCA.

Operations

The successful proposer will be responsible for full operation of the U.S. Pavilion. This would include, but not be limited to, such areas as protocol, public affairs, sponsorship fulfillment, cultural programming, student guide services, communications, operations, security, cleaning, and maintenance. Office space must be adequate for the proposed number of staff. A proposed staffing plan should be provided in the response to this RFP.

Expo Guidelines

Interested parties may view the Participation Guide at: http://ipm2016.kz/userdata/uploads/u14/1456310721.pdf. They can also email AstanaExpo2017@state.gov with any questions.

II. Eligibility Information

II.1. Eligible Applicants

Applications may be submitted by individuals, firms, associations, and public and private organizations (non-profit or for-profit). Non-profit organizations must meet the provisions described in Internal Revenue Code section 26 U.S.C. 501(c)(3). Non-profit organizations must have nonprofit status with the IRS at the time of application. If your organization received nonprofit status from the IRS within the past four years, you must submit the necessary documentation to verify nonprofit status. Failure to do so will cause your proposal to be declared technically ineligible.

III. Application and Submission Information

III.1. Contact Information To Request an Application Package

Please contact the Office of Central Asian Affairs, SCA/CEN, U.S. Department of State, 2201 C Street NW., Washington, DC 20520; or email AstanaExpo2017@state.gov for assistance. Please refer to Astana Expo 2017 when making your request.

III.2. Proposals

Proposals should be provided in a narrative of no more than twenty (20) pages 8½″ x 11″ in size, no smaller than 12-point font, single-spaced, plus a detailed budget, with necessary attachments and/or exhibits. The narrative and additional documents should outline in as much detail as possible the plans for providing a U.S. Pavilion at Astana Expo 2017. Proposals should address the following:

• Willingness to adhere to the General Regulations of Astana Expo 2017, as stipulated by the JSC Astana EXPO-2017, including restrictions and limitations related to construction;

• Track record of working with Pavilions and on the proposed theme;

• Experienced staff with language facility in Russian and/or Kazakh;

• Clear concept for the exhibit plan and storyline, including designs;

• Detailed budget showing breakdown of budget items required for each aspect of the project development and implementation;

• Experience in budget management including examples of reacting to unforeseen circumstances while still operating within budget constraints;

• Detailed organizational chart indicating all necessary positions and start dates, including but not limited to design, operations, financial management, communications, protocol, Sponsor recruitment and fulfillment, and student ambassadors;

• Timeline detailing each step in the design, outfitting, and breakdown of the U.S. Pavilion as well as the development of the U.S. Pavilion content; and

• Agreement to consult closely with and follow the direction of Department officials and the U.S. Commissioner General and a communication plan proposing how to do so.

Proposals should state clearly that all materials developed specifically for the project will be subject to prior review and approval by SCA. In addition, proposals should state that all contracts or sub-contracts contemplated to be awarded by the proposer to further the purposes of the U.S. Pavilion which are in excess of $50,000 will be reviewed and approved by SCA prior to their award.

III.3 Application Deadline and Methods of Submission

Application Deadline Date: October 26, 2016.

Reference: Astana Expo 2017 RFP.

Submitting Applications

Proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received by the Bureau of South and Central Asian Affairs (SCA) more than seven calendar days after the deadline will be ineligible for further consideration under this competition. Proposals shipped after the established deadlines are ineligible for consideration under this competition. It is each applicant's responsibility to ensure that each package is marked with a legible tracking number and to monitor/confirm delivery to SCA via the Internet. SCA will not notify you upon receipt of application. Delivery of proposal packages may not be made via local courier service or in person for this competition. Faxed documents will not be accepted at any time. Only proposals submitted as stated above will be considered. Applications may not be submitted electronically.

The original and ten copies of the application should be sent to:

U.S. Department of State, Bureau of South and Central Asian Affairs, Ref.: Astana Expo 2017 RFP, SCA/CEN, 2201 C Street NW., Washington, DC 20520.

Applicants must also submit the “Executive Summary” and “Proposal Narrative” sections of the proposal in text (.txt) or word (.doc) format via email to AstanaExpo2017@state.gov.

IV. Application Review Information

IV.1. Review Process

The Bureau of South and Central Asian Affairs (SCA) will review all proposals for technical eligibility. Proposals will be deemed ineligible if they are not submitted by a U.S. citizen, U.S.-owned corporation, or U.S.-based organization, and do not fully adhere to the General Regulations of Astana Expo 2017 and the guidelines stated herein. Eligible proposals will be subject to compliance with Federal guidelines.

SCA will review all eligible proposals, as will relevant elements of the U.S. Mission in the Republic of Kazakhstan and a panel of senior U.S. Government employees. Proposals may also be reviewed by the Office of the Legal Adviser or by other Department elements and private sector experts. The final decision on which proposal is most advantageous to the U.S. Government will be at the sole discretion of the Department's Assistant Secretary for South and Central Asian Affairs.

IV.2. Review Criteria

Technically, eligible proposals will be reviewed according to the criteria stated below. These criteria are not rank-ordered.

1. Program planning to achieve Pavilion objectives: Proposals should clearly demonstrate how the planned Pavilion will: Educate and inform foreign audiences about the United States and its scientific, technological, and commercial innovations relating to energy; and promote broad U.S. commercial interests around the world, including in the region, and specifically address the theme and General Regulations of the Expo. The proposal should also include a clearly articulated media engagement plan and public communications strategy for the Pavilion. Pavilion objectives should be reasonable, feasible, and flexible. The proposal should contain a detailed timeline and budget that demonstrate substantive undertakings and logistical capacity. The proposal should also include a communications plan for consulting with the Department.

2. Institutional Capacity/Record/Ability: Proposals should describe personnel and institutional resources, which should be defined and adequate to achieve the Pavilion's goals. Proposals should demonstrate an institutional record of successful Pavilion activities, including responsible fiscal management and governance practices, and full compliance with all applicable BIE Expo requirements.

3. Multiplier effect/impact: Proposals should clearly state how Pavilion content and related activities will strengthen long-term mutual understanding between the United States and Kazakhstan, the other countries of Central Asia, and people around the world more broadly.

4. Support of Diversity: Proposals should demonstrate involvement of participants from traditionally underrepresented groups including, but not limited to, women, racial and ethnic minorities, and people with disabilities.

5. Monitoring and Project Evaluation Plan: Proposals should include a plan to measure the impact of the proposed U.S. Pavilion, cultural programs, and information programs.

6. Sponsorship Management: Proposals should include a plan to manage sponsor engagement and sponsorship fulfillment.

7. Cost-effectiveness: Proposals must include a proposed action plan and timeline for all aspects of the project with associated, detailed budget estimates based on a $6 (six) million budget. Note that prospective donors will be vetted with the State Department for potential conflict of interest.

V. Selection Administration Information

Selection Notices

The Department will issue a “letter of intent” to the selected proposer authorizing that entity to proceed with fundraising to complete the USA Pavilion project. The letter will include guidelines on fundraising to be followed by the selected proposer and will establish a deadline for completion of all fundraising activities. The successful proposer must be able to demonstrate to the Department that it can raise the funds necessary to complete the project. The successful proposer is expected to sign a Memorandum of Understanding with the Department. Only after the successful proposer is able to demonstrate that all funding required for this project will be in hand will the Department of State sign a Memorandum of Understanding (MOU) with that proposer, sign a Participation Contract with the Expo organizing body, and appoint a Commissioner General.

Unsuccessful proposers will receive notification of the results of the application review from the Bureau of South and Central Asian Affairs (SCA).

Reporting Requirements

The successful proposer must provide SCA with a hard copy original plus two copies of the following reports:

1. Program and financial reports every 45 (forty-five) calendar days after the signature of the Memorandum of Understanding.

2. Final program and financial reports no more than 90 (ninety) calendar days after the scheduled September 10, 2017, closing of Astana Expo 2017.

VI. Agency Contacts

For questions about this announcement, contact: U.S. Department of State, Bureau of South and Central Asian Affairs, Ref.: Astana Expo 2017 RFP, SCA/CEN, 2201 C Street NW., Washington, DC 20520; AstanaExpo2017@state.gov.

Correspondence with SCA concerning this Request for Proposals (RFP) should reference Astana Expo 2017.

Please read the complete announcement before sending inquiries or submitting proposals. Once the RFP deadline for submission of proposals has passed, SCA staff may not discuss this competition with applicants until the proposal review process has been completed.

VII. Other Information

Notice

The terms and conditions published in this Request for Proposals are binding and may only be modified in writing. Explanatory information provided by the Bureau of South and Central Asian Affairs (SCA) that contradicts published language will not be binding. Issuance of this RFP does not constitute an intention to agree to work with any private sector entity at Astana Expo 2017. SCA reserves the right to select the U.S. private sector partner for Astana Expo 2017 and to approve all elements of the Pavilion and project. Decisions made based on indications of interest submitted in response to this RFP will be made in the sole discretion of SCA and will be final.

Dated: September 16, 2016.
Nisha Biswal,
Assistant Secretary, Bureau of South and Central Asian Affairs, Department of State.

[FR Doc. 2016-23115 Filed 9-23-16; 8:45 am]

BILLING CODE 4710-46-P